SURFACE TRANSPORTATION BOARD

Two-Week Notice of Amended Request for Emergency Approval of Information Collection: Urgent Rail Service Issues

AGENCY: Surface Transportation Board.

ACTION: Amended Notice and request for comments.

SUMMARY: As part of its continuing effort to reduce paperwork burdens, and as required by the Paperwork Reduction Act of 1995, the Surface Transportation Board gives notice that it is requesting from the Office of Management and Budget emergency approval for an existing collection without an OMB Control Number, Urgent Rail Service Issues, as described below. This notice amends and supersedes the previous notice seeking comments and extends the due dates, so that all comments will now be due on a single date.

DATES: Comments on this information collection should be submitted by July 1, 2022.

ADDRESSES: Direct all comments to Chris Oehrle, PRA Officer, Surface Transportation Board, 395 E Street SW, Washington, DC 20423-0001, or to PRA@stb.gov. When submitting comments, please refer to “Urgent Rail Service Issues.” For further information regarding this collection, contact Ian Anderson at (202) 245-0337 or Ian.Anderson@stb.gov. Assistance for the hearing impaired is available through the Federal Information Relay Service (FIRS) at 1-800-877-8339.

SUPPLEMENTARY INFORMATION: Comments are requested concerning each collection as to (1) whether the particular collection of information is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Submitted comments will be included and summarized in the Board's request for OMB approval.

Subjects: In this notice, the Board is requesting comments on the following information collection:

Description of Collection

Title: Urgent Rail Service Issues.

OMB Control Number: 2140-XXXX.

STB Form Number: None.

Type of Review: Emergency approval of an existing information collection without an OMB control number.

Respondents: Class I (Large) railroads.

Number of Respondents: Seven.

Estimated Time Per Response: See Table below.

Table—Estimated Hours per Response
Type of filing | Estimated hours per response
Service Recovery Plans * | 80
Historical Data * | 8
Service Progress Reports * | 8
Individual Conference Calls * | 0.5
Weekly Performance Data | 8
Monthly Employment Data | 16
Supplement to April 2022 Employment Data | 8
* These sub-collections only apply to the four largest Class I railroads.

Frequency: One-time, bi-weekly and monthly, as provided in Table below

Table—Estimated Number of Responses
Type of filing | Number of respondents | Estimated frequency
Service Recovery Plans * | 4 | 1
Historical Data * | 4 | 1
Service Progress Reports * | 4 | 13
Individual Conference Calls * | 4 | 6
Weekly Performance Data | 7 | 26
Monthly Employment Data | 7 | 6
Supplement to April 2022 Employment Data | 7 | 1
* These sub-collections only apply to the four largest Class I railroads

Total Burden Hours (annually including all respondents): 2,964 (sum of estimated hours per response × number of annual responses × frequency for each type of filing), as provided in Table below

Table—Total Estimated Burden Hours
Type of filing | Estimated hours per response | Number of respondents | Estimated frequency | Total annual burden hours
Service Recovery Plans * | 80 | 4 | 1 | 320
Historical Data * | 8 | 4 | 1 | 32
Service Progress Reports * | 8 | 4 | 13 | 416
Individual Conference Calls * | 0.5 | 4 | 6 | 12
Weekly Performance Data | 8 | 7 | 26 | 1,456
Monthly Employment Data | 16 | 7 | 6 | 672
Supplement to April 2022 Employment Data | 8 | 7 | 1 | 56
Total Annual Burden Hours |  |  |  | 2,964
* These sub-collections only apply to the four largest Class I railroads.

Total “Non-hour Burden” Cost: There are no non-hourly burden costs for this collection. The collections may be filed electronically.

Needs and Uses: The Board is responsible for the economic regulation of common carrier rail transportation. Under 49 U.S.C. 1321(b), 11123, and 11145(a), the Board is empowered to address immediate service issues. Collecting this information will enable the Board to take necessary action to timely deal with the unanticipated and urgent service issues affecting the U.S. rail system. These measures are meant to inform the Board's assessment of further actions that may be warranted to address the acute service issues facing the rail industry and to promote industry-wide transparency, accountability, and improvements in rail service.

At the Board's April 26 and 27, 2022 public hearing in Urgent Issues in Freight Rail Service, the Board received extensive testimony on severe rail service issues reported by a wide range of witnesses—including agricultural, energy, and other shippers, as well as government officials, rail labor, and rail experts. The Board has also continued to review and monitor weekly rail service performance data that indicated substantial deterioration in service.

In a decision served on May 6, 2022, the Board found that immediate action was needed to address the significant service problems, and it ordered certain railroads to immediately submit relevant information. This information collection directed the four largest U.S. rail carriers—BNSF Railway Company (BNSF), CSX Transportation (CSXT), Norfolk Southern Railway Company (NSR), and Union Pacific Railroad Company (UP)—to submit service recovery plans, along with bi-weekly progress reports for the next six months, in an effort to address service deficiencies that are impacting the public, businesses, and the U.S. economy. This collection also required all Class I rail carriers operating in the United States to report more comprehensive and customer-centric performance metrics and employment data, also for a six-month period.

In a decision served June 13, 2022, the Board is supplementing its May 6 decision and is (1) requiring BNSF, CSXT, NSR, and UP to correct deficiencies in their service recovery plans and provide additional information on their actions to improve service and communications with customers and (2) updating the technical documentation required of all Class I railroad for both the weekly service data and the monthly employment data. The Board is taking this action to better inform its and the public's assessment of actions that may be warranted to address the acute service issues described above.

This decision and notice concurrently reflects the Board's decision to supplement this information collection. Correspondingly, it updates, amends and supersedes the Board's notice published June 3, 2022 (87 FR 33,868). It updates the burdens for this information collection to reflect a higher level of specificity requested for Service Recovery Plans and additional metrics requested for the Monthly Employment Data, as updated in the Board's decision served concurrently with this decision.

This updated collection will be used by the Board to inform its understanding of the current service problems and progress being made to resolve them and inform whether additional action is warranted. The collection is also intended to promote industry-wide transparency, accountability, and improvements in rail service. Although not all Class I carriers are experiencing service problems to the same degree, the Board is also requiring certain reporting requirements to apply to all Class I carriers so that the Board can assess the current service issues across the rail network as a whole. Because the U.S. rail system is an interconnected network, problems in one geographic area can quickly spread elsewhere. The supplemented reporting requirements will give the agency and stakeholders access to data needed for a more-timely understanding of the extent and location of the acute service issues and labor and equipment shortages. The information received by the Board from this collection will be filed in Docket No. EP 770 (Sub-No. 1) and will be publicly available at www.stb.gov and may be found by a search in that docket under the “Proceedings and Actions” pull-down menu.

The Board makes this submission because, under the PRA, a federal agency that conducts or sponsors a collection of information must display a currently valid OMB control number. A collection of information, which is defined in 44 U.S.C. 3502(3) and 5 CFR 1320.3(c), includes agency requirements that persons submit reports, keep records, or provide information to the agency, third parties, or the public. Under 5 CFR 1320.13, emergency processing is appropriate here and the Board is providing an extended two-week comment period through publication in the Federal Register concerning each proposed collection of information.

Dated: June 13, 2022.
Aretha Laws-Byrum,
Clearance Clerk.

[FR Doc. 2022-13029 Filed 6-16-22; 8:45 am]

BILLING CODE 4915-01-P